DEPARTMENT OF THE INTERIOR

Bureau of Ocean Energy Management

[OMB Control Number 1010-0187; Docket ID: BOEM-2017-0016]

Agency Information Collection Activities; Project Planning for the Use of Outer Continental Shelf Sand, Gravel, and Shell Resources in Construction Projects That Qualify for Negotiated Noncompetitive Agreement

AGENCY: Bureau of Ocean Energy Management, Interior.

ACTION: Notice of information collection; request for comment.

SUMMARY: In accordance with the Paperwork Reduction Act of 1995, the Bureau of Ocean Energy Management (BOEM) is proposing to renew an information collection request (ICR).

DATES: Interested persons are invited to submit comments on or before February 10, 2020.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-0187 in the subject line of your comments.

FOR FURTHER INFORMATION CONTACT: To request additional information about this ICR, contact Anna Atkinson by email, or by telephone at 703-787-1025.

SUPPLEMENTARY INFORMATION: In accordance with the Paperwork Reduction Act of 1995, BOEM provides the general public and other Federal agencies with an opportunity to comment on new, proposed, revised, and continuing collections of information. This helps BOEM assess the impact of our information collection requirements and minimize the public's reporting burden. It also helps the public understand our information collection requirements and provide the requested data in the desired format.

BOEM is soliciting comments on the proposed ICR described below. We are especially interested in public comment addressing the following issues: (1) Is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in our request to the Office of Management and Budget (OMB) for approval of this ICR. You should be aware that your entire comment—including your address, phone number, email address, or other personally identifiable information—may be made publicly available at any time. In order for BOEM to withhold from disclosure your personally identifiable information, you must identify any information contained in the submittal of your comments that, if released, would constitute a clearly unwarranted invasion of your personal privacy. You must also briefly describe any possible harmful consequences of the disclosure of information, such as embarrassment, injury, or other harm. While you can ask us in your comment to withhold your personally identifiable information from public review, we cannot guarantee that we will be able to do so.

BOEM protects proprietary information in accordance with the Freedom of Information Act (5 U.S.C. 552) and the Department of the Interior's implementing regulations (43 CFR part 2).

Abstract: Under the authority delegated by the Secretary of the Interior, BOEM is authorized, pursuant to section 8(k)(2) of the OCS Lands Act (43 U.S.C. 1337(k)(2), to convey rights to OCS sand, gravel, and shell resources by negotiated noncompetitive agreement (NNA) for use in shore protection and beach and coastal restoration, or for use in construction projects funded in whole or part by, or authorized by, the Federal Government.

Since 2017, 12 projects have been processed. In order for BOEM to continue to meet the needs of local and state governments, information regarding upcoming projects must be acquired to plan for future projects and anticipated workload. Therefore, BOEM will issue calls for information about needed resources and locations from interested parties to develop and maintain a project schedule. It also includes the potential for a call in response to an emergency declaration, such as a hurricane or tropical storm. This ICR has no significant changes from the 2017 OMB approved information collection.

In the event the number of requested projects exceeds the limits of the current BOEM staff and funding resources, BOEM may request the relevant states to prioritize their own projects based on several criteria including likelihood of project funding and progress of environmental work. BOEM will use the information to determine appropriate future resource allocations, identify potential conflicts of use, develop NNAs, and meet all necessary environmental and legal requirements. BOEM will publish all ongoing projects on the website https://www.boem.gov/Requests-and-Active-Leases/.

Title of Collection: Project Planning for the Use of Outer Continental Shelf Sand, Gravel, and Shell Resources in Construction Projects that Qualify for Negotiated Noncompetitive Agreement.

OMB Control Number: 1010-0187.

Form Number: None.

Type of Review: Renewal of a currently approved collection.

Respondents/Affected Public: Potential respondents comprise states, counties, localities, and tribes.

Total Estimated Number of Annual Responses: 80 responses.

Total Estimated Number of Annual Burden Hours: 200 hours.

Respondent's Obligation: Voluntary.

Frequency of Collection: Annually and on occasion.

Total Estimated Annual Non-hour Burden Cost: We have identified no non-hour paperwork cost burdens for this collection.

Estimated Reporting and Recordkeeping Hour Burden: We estimate that the annual reporting burden for this collection is about 200 hours, assuming an emergency declaration is made each year.

Local Government Compilation: 25 local × 1 hour/entity × 2 responses/year = 50 hours; State Compilation: 15 States × 5 hours/State × 2 responses/year = 150 hours (50 county hours + 150 State hours = 200 total burden hours).

An agency may not conduct or sponsor, and a person is not required to respond to, a collection of information unless it displays a currently valid OMB control number. The authority for this action is the Paperwork Reduction Act of 1995 (44 U.S.C. 3501 et seq.).

Deanna Meyer-Pietruszka,
Chief, Office of Policy, Regulation, and Analysis.

[FR Doc. 2019-26683 Filed 12-10-19; 8:45 am]

BILLING CODE 4310-MR-P